DEPARTMENT OF THE INTERIOR

Office of Surface Mining Reclamation and Enforcement

Notice of Proposed Information Collection for 1029-0083

Correction

In notice document 05-5692 beginning on page 14712 in the issue of Wednesday, March 23, 2005, make the following correction:

On page 14712, in the third column, under the DATES heading, in the third line, “April 22, 2005” should read, “May 23, 2005.”

[FR Doc. C5-5692 Filed 3-30-05; 8:45 am]

BILLING CODE 1505-01-D

DEPARTMENT OF TRANSPORTATION

Federal Aviation Administration

14 CFR Part 71

[Docket No. FAA-2004-19458; Airspace Docket No. 04-AEA-11]

Establishment of Class E Airspace; Mifflintown, PA

Correction

In rule document 05-4981 appearing on page 12414 in the issue of Monday, March 14, 2005, make the following correction:

§ 71.1 [Corrected]

On page 12414, in the second column, in §71.1, under the heading AEA PA E5 Mifflintown, PA [New], in the second line, “(Lat. 40°36′18″ N.,” should read “(Lat. 40°36′04″ N.,”.

[FR Doc. C5-4981 Filed 3-30-05; 8:45 am]

BILLING CODE 1505-01-D